DEPARTMENT OF THE INTERIOR

Bureau of Land Management

[NM-952-05-1420-BJ]

Notice of Filing of Plats of Survey; New Mexico

AGENCY: Bureau of Land Management, Interior.

ACTION: Notice.

SUMMARY: The plats of survey described below are scheduled to be officially filed in the New Mexico State Office, Bureau of Land Management, Santa Fe, New Mexico, (30) thirty calendar days from the date of this publication.

SUPPLEMENTARY INFORMATION:

New Mexico Principal Meridian, New Mexico

The plat representing the dependent resurvey and survey in Township 9 South, Range 12 East, and subdivision of sections, accepted March 7, 2005, for Group 943 New Mexico.

The Plat representing the dependent resurvey and survey of subdivision of sections for Township 17 North, Range 18 West, accepted July 19, 2005, for Group 909 New Mexico.

The plat representing the dependent resurvey and survey of subdivision of sections for Township 20 North, Range 9 East, accepted July 20, 2005, for Group 109 New Mexico.

The plat, in 2 sheets, representing the dependent resurvey in Township 13 North, Range 19 West, accepted July 20, 2005, for Group 1028 New Mexico.

The Supplemental Plat showing aliquot parts and new lots 39 and 40 created from former lot 37 of section 18 for Township 20 North, Range 9 East, accepted May 2, 2005, for New Mexico.

The plat representing the dependent resurvey and survey of subdivision of sections for Township 23 North, Range 10 East, accepted June 30, 2005, for Group 1028 New Mexico.

The plat representing the dependent resurvey and survey of subdivision of sections for Township 23 North, Range 8 West, accepted March 30, 2005, for Group 1033 New Mexico.

Indian Meridian, Oklahoma

The plats representing the dependent resurvey and survey of Township 8 North, Range 12 East, accepted May 11, 2005, for Group 97 Oklahoma.

The plat representing the dependent resurvey and survey of Township 9 North, Range 12 East, accepted May 11, 2005, for Group 97 Oklahoma.

The plat representing the dependent resurvey and survey of Township 9 North, Range 7 East, accepted May 11, 2005, for Group 109 Oklahoma.

The plat representing the dependent resurvey and survey of Township 1 North, Range 2 West, accepted June 13, 2005, for Group 111 Oklahoma.

The plat representing the dependent resurvey and survey of Township 9 North, Range 11 East, accepted May 11, 2005, for Group 97 Oklahoma.

The plat representing the dependent resurvey and survey of Township 4 South, Range 2 West, accepted June 30, 2005, for Group 115 Oklahoma.

The plat representing the dependent resurvey and survey of Township 5 North, Range 4 West, accepted April 12, 2005, for Group 125 Oklahoma.

The plat representing the dependent resurvey and survey of Township 1 North, Range 5 West, accepted June 13, 2005, for Group 103 Oklahoma.

The plat representing the dependent resurvey and survey of Township 23 North, Range 8 East, accepted August 8, 2005, for Group 127 Oklahoma.

The plat representing the dependent resurvey and survey of Township 14 North, Range 25 East, accepted May 11, 2005, for Group 114 Oklahoma.

The plat representing the dependent resurvey and survey of Township 8 North, Range 5 West, accepted June 30, 2005, for Group 122 Oklahoma.

If a protest against a survey, as shown on any of the above plats is received prior to the date of official filing, the filing will be stayed pending consideration of the protest. A plat will not be officially filed until the day after all protests have been dismissed.

A person or party who wishes to protest against any of these surveys must file a written protest with the New Mexico State Director, Bureau of Land Management, stating that they wish to protest.

A statement of reasons for a protest may be filed with the notice of protest to the State Director, or the statement of reasons must be filed with the State Director within thirty days after the protest is filed.

for further information contact: These plats will be available for inspection in the New Mexico State Office, Bureau of Land Management, P.O. Box 27115, Santa Fe, New Mexico 87502-0115. Copies may be obtained from this office upon payment of $1.10 per sheet.

Dated: August 23, 2005.
Robert A. Casias,
Chief Cadastral Surveyor.

[FR Doc. 05-17669 Filed 9-6-05; 8:45 am]

BILLING CODE 4310-FB-M